Title 3—

The President

Notice of January 3, 2002

Continuation of Libya Emergency

On January 7, 1986, by Executive Order 12543, President Reagan declared a national emergency to deal with the unusual and extraordinary threat to the national security and foreign policy of the United States constituted by the actions and policies of the Government of Libya. On January 8, 1986, by Executive Order 12544, the President took additional measures to block Libyan assets in the United States. The President has transmitted a notice continuing this emergency to the Congress and the Federal Register every year since 1986.

The crisis between the United States and Libya that led to the declaration of a national emergency on January 7, 1986, has not been resolved. Despite the United Nations Security Council's suspension of U.N. sanctions against Libya upon the Libyan government's hand over of the Pan Am 103 bombing suspects, Libya has not yet complied with its obligations under U.N. Security Council Resolutions 731 (1992), 748 (1992), and 883 (1993), which include Libya's obligation to accept responsibility for the actions of its officials and pay compensation.

Therefore, in accordance with section 202(d) of the National Emergencies Act (50 U.S.C. 1622(d)), I am continuing for 1 year the national emergency with respect to Libya. This notice shall be published in the Federal Register and transmitted to the Congress.

B

THE WHITE HOUSE,

January 3, 2002.

[FR Doc. 02-400

Filed 1-3-01; 11:35 am]

Billing code 3195-01-P